DEPARTMENT OF HEALTH AND HUMAN SERVICES

Centers for Disease Control and Prevention

[60 Day-05-05CN]

Proposed Data Collections Submitted for Public Comment and Recommendations

In compliance with the requirement of section 3506(c)(2)(A) of the Paperwork Reduction Act of 1995 for opportunity for public comment on proposed data collection projects, the Centers for Disease Control and Prevention (CDC) will publish periodic summaries of proposed projects. To request more information on the proposed projects or to obtain a copy of the data collection plans and instruments, call 404-371-5983 and send comments to Seleda Perryman, CDC Assistant Reports Clearance Officer, 1600 Clifton Road, MS-D74, Atlanta, GA 30333 or send an e-mail to omb@cdc.gov.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Written comments should be received within 60 days of this notice.

Proposed Project

2005 Business Responds to AIDS (BRTA) Survey—New—National Center for HIV, STD, and TB Prevention (NCHSTP), Centers for Disease Control and Prevention (CDC).

Background and Brief Description

The Business Responds to AIDS (BRTA) program is a partnership among CDC, business, labor, and the public health sector that began in 1992. The purpose of the program is to encourage businesses to implement HIV/AIDS policies and education programs in the workplace. CDC is requesting a 3-year approval from OMB to administer a survey to business owners or human resource directors to assess business practices and policies relating to HIV/AIDS in the workplace. This proposed data collection will incorporate some questions, but will be a shorter version, from a previously approved data collection, “Business Responds to AIDS Benchmark Study,” OMB No. 0920-0359, which expired on January 31, 1996.

The target population for the 2005 survey will be private-sector worksites employing 15 or more individuals and operating in the United States at the time of the survey. Selected worksites will be able to respond to the survey by telephone or electronically through the internet. An introductory letter describing the BRTA program and the survey will be mailed to each selected worksite two weeks prior to implementation of the actual survey. The initial point of contact at the worksites is expected to be the business owner for smaller sites and the human resources director for larger sites. This individual will be asked to either complete the interview or provide an appropriate referral within the company. CDC anticipates that information from the survey will allow the agency to revise and strengthen the objectives and strategies of the BRTA program in an effort to support business practices and policies related to HIV/AIDS.

There is no cost to respondents participate in the survey other than their time.

Respondents | Number of respondents | Number of responses per respondent | Average burden per response (in hrs) | Total burden hours
Business Owners or Human Resources Directors | 2,200 | 1 | 20/60 | 733

Dated: July 15, 2005.
Joan F. Karr,
Acting Reports Clearance Officer, Centers for Disease Control and Prevention.

[FR Doc. 05-14371 Filed 7-20-05; 8:45 am]

BILLING CODE 4163-18-P